DEPARTMENT OF HEALTH AND HUMAN SERVICES

Health Resources and Services Administration

U.S. National Authority for the WHO Global Code of Practice on the International Recruitment of Health Personnel; Notice of Public Meeting

AGENCY: Health Resources and Services Administration, HHS; Office of Global Affairs, HHS.

ACTION: Public meeting.

SUMMARY: In order to support the United States' implementation of the WHO Global Code of Practice on the International Recruitment of Health Personnel, notice is hereby given of the following meeting to update and engage interested parties in U.S. implementation efforts.

DATES: Meeting will be held on December 14, 2011, 9 a.m. to 10:30 a.m.

ADDRESSES: Meeting will be held at the Hubert H. Humphrey Building of the U.S. Department of Health and Human Services, 200 Independence Ave. SW., Washington, DC 20201, (877) 696-6775. The meeting is also being held via webinar.

FOR FURTHER INFORMATION CONTACT: For more information, please contact Margaret Glos, National Center for Health Workforce Analysis, Bureau of Health Professions, Health Resources and Services Administration, Room 9-57, Parklawn Building, 5600 Fishers Lane, Rockville, Maryland 20857, telephone (301) 443-3579 or email the United States National Authority for implementation of the WHO Global Code of Practice at us.who.irhp@hhs.gov.

SUPPLEMENTARY INFORMATION: Status: The meeting will be open to the public.

Purpose: The purpose of the WHO Global Code of Practice on International Recruitment of Health Personnel is “to establish and promote voluntary principles and practices for the ethical international recruitment of health personnel and to facilitate the strengthening of health systems” (http://www.who.int/hrh/migration/code/practice/en/). The United States Government has designated the Office of Global Affairs (OGA) and the Health Resources and Services Administration (HRSA) as co-National Authority to be the point of contact for implementation activities. The Global Code encourages WHO member states to cooperate with all relevant stakeholders in their implementation efforts. This meeting is thus intended to provide an update to all interested stakeholders on U.S. Global Code implementation efforts to date and to provide a forum for questions on activities related to implementation of the Global Code.

Agenda: The meeting will be held on Wednesday, December 14. It will include a discussion of U.S. Government activities related to the WHO Global Code. Members of the public will have the opportunity to provide comments during the latter part of the session.

The meeting will be open to the public as indicated above, with attendance limited to space available. Requests to attend via webinar can be made up to two days prior to the meeting at us.who.irhp@hhs.gov. Participants will receive an email response containing the link to the webinar. Individuals who plan to attend and need special assistance, such as sign language interpretation or other reasonable accommodations, should notify the contact person listed above at least 10 days prior to the meeting. Please note that foreign nationals planning to attend the session in person will require additional paperwork for security clearance and that this clearance process requires a minimum of ten days. Any foreign nationals who wish to attend in person should email us.who.ihrp@hhs.gov as soon as possible to receive the necessary paperwork.

Dated: December 5, 2011.
Mary K. Wakefield,
Administrator, Health Resources and Services Administration.
Dated: November 29, 2011.
Jimmy Kolker,
Principal Deputy Director, Office of Global Affairs.

[FR Doc. 2011-31775 Filed 12-9-11; 8:45 am]

BILLING CODE 4165-15-P